OVERSEAS PRIVATE INVESTMENT CORPORATION

Sunshine Act Cancellation Notice—OPIC December 4, 2019 Public Hearing

OPIC's Sunshine Act notice of its Public Hearing in Conjunction with its Board meeting was published in the Federal Register (Volume 84, Number 215, Page 59849) on Wednesday, November 6, 2019. The related Board meeting has been cancelled, therefore, OPIC's Public Hearing scheduled for 1 p.m., December 4, 2019, has been cancelled.

CONTACT PERSON FOR INFORMATION: Information on the hearing cancellation may be obtained from Catherine F.I. Andrade at (202) 336-8768, or via email at Catherine.Andrade@opic.gov.

Dated: November 19, 2019.
Catherine F.I. Andrade,
OPIC Corporate Secretary.

[FR Doc. 2019-25451 Filed 11-20-19; 11:15 am]

BILLING CODE 3210-01-P